DEPARTMENT OF DEFENSE

Department of the Army

Privacy Act of 1974; System of Records

AGENCY: Department of the Army, DoD.

ACTION: Notice to alter systems of records.

SUMMARY: The Department of the Army proposes to alter two systems of records notices in its inventory of record systems subject to the Privacy Act of 1974 (5 U.S.C. 552a), as amended.

DATES: This action will be effective on February 7, 2001, unless comments are received that would result in a contrary determination.

ADDRESSES: Records Management Division, U.S. Army Records Management and Declassification Agency, ATTN: TAPC-PDD-RP, Stop 5603, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army notices for records systems subject to the Privacy Act of 1974 (5 U.S.C. 552a), as amended, have been published in the Federal Register and are available from the address above.

The proposed system report, as required by 5 U.S.C. 552a(r) of the Privacy Act was submitted on December 19, 2000, to the House Committee on Government Reform, the Senate Committee on Governmental Affairs, and the Office of Management and Budget (OMB) pursuant to paragraph 4c of Appendix I to OMB Circular No. A-130, ‘Federal Agency Responsibilities for Maintaining Records About Individuals,’ dated February 8, 1996, (61 FR 6427, February 20, 1996).

Dated: December 21, 2000.
Patricia L. Toppings,
Alternate OSD Federal Register Liaison Officer, Department of Defense.

A0614-100/200 USMA

System name:

Evaluation/Assignment of Academic Instructors (February 22, 1993, 58 FR 10002).

Changes:

* * * * *

Categories of individuals covered by the system:

Delete entry and replace with ‘Civilian and military personnel who apply and/or serve on the Staff and Faculty, U.S. Military Academy.’

Categories of records in the system:

Delete entry and replace with ‘Individual’s application consisting of name, grade or position, Social Security Number, educational and professional qualifications such as the Graduate Record Examination (GRE) or Graduate Management Admission Test (GMAT); evaluations; Officer Record Briefs (military only); personnel actions; appointments; official photographs; curriculum vitae; letters of endorsement; award recommendations; assignment orders; application/acceptance for advanced civil schooling; correspondence between the U.S. Military Academy and the Total Army Personnel Command; and other relevant documents.’

Purpose(s):

Delete entry and replace with ‘Used by the U.S. Military Academy Dean of Academic Board and department heads to assess qualifications and suitability, and manage civilian and military personnel for assignment to the Staff and Faculty, U.S. Military Academy.’

* * * * *

Safeguards:

Delete entry and replace with ‘Information is available only to designated people who have a need-to-know.’

Retention and disposal:

Delete entry and replace with ‘Disposition pending (until the National Archive and Records Administration approves the retention and disposition schedule, treat records as permanent).’

* * * * *

A0614-100/200 USMA

System name:

Evaluation/Assignment of Academic Instructors.

System location:

Associate Dean for Plans and Resources, Office of the Dean, U.S. Military Academy, Dean of Academic Board, West Point, NY 10996-5000.

Categories of individuals covered by the system:

Civilian and military personnel who apply and/or serve on the Staff and Faculty, U.S. Military Academy.

Categories of records in the system:

Individual's application consisting of name, grade or position, Social Security Number, educational and professional qualifications such as the Graduate Record Examination (GRE) or Graduate Management Admission Test (GMAT); evaluations; Officer Record Briefs (military only); personnel actions; appointments; official photographs; curriculum vitae; letters of endorsement; award recommendations; assignment orders; application/acceptance for advanced civil schooling; correspondence between the U.S. Military Academy and the Total Army Personnel Command; and other relevant documents.

Authority for maintenance of the system:

10 U.S.C. 3013, Secretary of the Army; 10 U.S.C. 4334, Command and Supervision; 10 U.S.C. 4337, Civilian Faculty and E.O. 9397 (SSN).

Purpose(s):

Used by the U.S. Military Academy Dean of Academic Board and department heads to assess qualifications and suitability, and manage civilian and military personnel for assignment to the Staff and Faculty, U.S. Military Academy.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records and electronic storage medium.

Retrievability:

By individual's name and Social Security Number.

Safeguards:

Information is available only to designated people who have a need-to-know.

Retention and disposal:

Disposition pending (until the National Archive and Records Administration approves the retention and disposition schedule, treat records as permanent).

System manager(s) and address:

Associate Dean for Plans and Resources, Office of the Dean, Dean of Academic Board, West Point, NY 10996-5000.

Notification procedure:

Individuals seeking to determine if information about themselves is contained in this record system should address written inquiries to the Associate Dean for Plans and Resources, Office of the Dean, U.S. Military Academy, Dean of Academic Board, West Point, NY 10996-5000.

Individual should provide the full name, Social Security Number, sufficient details to locate records, current mailing address, and signature.

Record access procedures:

Individuals seeking access to records about themselves contained in this record system should address written inquiries to the Associate Dean for Plans and Resources, Office of the Dean, U.S. Military Academy, Dean of Academic Board, West Point, NY 10996-5000.

Individual should provide the full name, Social Security Number, sufficient details to locate records, current mailing address, and signature.

Contesting record procedures:

The Army's rules for accessing records, and for contesting contents and appealing initial agency determinations are contained in Army Regulation 340-21; 32 CFR part 505; or may be obtained from the system manager.

Record source categories:

From the individual; official Army or other Service records; academic institutions; letters of endorsement from third parties; U.S. Army Military Personnel Center; similar relevant documents.

Exemptions claimed for the system:

None.

A0635-40 TAPC

System name:

Temporary Disability Retirement Master List (TDRL) (February 22, 1993, 58 FR 10002).

Changes:

* * * * *

Authority for maintenance of the system:

Delete entry and replace with ‘10 U.S.C. 1376, Temporary Disability Retired Lists; 10 U.S.C. 3013, Secretary of the Army; Army Regulation 635-40, Physical Evaluation for Retention, Retirement of Separation; and E.O. 9397 (SSN).

* * * * *

Routine uses of records maintained in the system, including categories of users and the purposes of such uses:

Add a new paragraph ‘To the Department of Veterans Affairs to facilitate claims for veteran disability benefits.’

Storage:

Paper records in file folders, automated database, computer printouts, magnetic tapes and disks.

Retrievability:

Add ‘name’ to entry.

Safeguards:

Add to entry ‘Records are retained in secure offices within secure buildings.’

* * * * *

Record source categories:

Delete entry and replace with ‘From the individual, medical treatment facilities, and other Army records and reports.’

* * * * *

A0635-40 TAPC

System name:

Temporary Disability Retirement Master List (TDRL).

System location:

Primary location:

Chief, U.S. Army Physical Disability Agency, Walter Reed Army Medical Center, 6900 Georgia Avenue, NW, Building 7, Washington, DC 20307-5001.

Secondary location:

Defense Finance and Accounting Service, 8899 East 56th Street, Indianapolis, IN 46249-5000.

Categories of individuals covered by the system:

Army personnel who are on temporary disability retirement.

Categories of records in the system:

File contains, Social Security Number, name, address, Department of Army special order number, percentage of disability, doctor code, re-examination date, date placed on TDRL, hospital code, travel code, Army component, pay termination code, requirement for board code, record control number, hospital name and address.

Authority for maintenance of the system:

10 U.S.C. 1376, Temporary Disability Retired Lists; 10 U.S.C. 3013, Secretary of the Army; Army Regulation 635-40, Physical Evaluation for Retention, Retirement of Separation; and E.O. 9397 (SSN).

Purpose(s):

To coordinate with medical treatment facilities for scheduling medical examinations; to issue travel orders for individual to report to medical treatment facility for annual medical examination; to determine individual’s status by the end of the fifth year of being on the TDRL, i.e., whether individual is to be permanently retired for disability, or returned to duty.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Veterans Affairs to facilitate claims for veteran disability benefits.

The DoD ‘Blanket Routine Uses’ set forth at the beginning of the Army's compilation of systems of records notices also apply to this system.

Policies and practices for storing, retrieving, accessing, retaining, and disposing of records in the system:

Storage:

Paper records in medical treatment facilities; magnetic tape, disc.

Retrievability:

By name, Social Security Number and date.

Safeguards:

Access to all records is restricted to individuals having need therefor in the performance of duties. Automated media are further protected by authorized password for system, controlled access to operation rooms and controlled output distribution. Records are retained in secure offices within secure buildings.

Retention and disposal:

Information is maintained for 3 years after the member is found physically fit, separates or retires.

System manager(s) and address:

Chief, U.S. Army Physical Disability Agency, Walter Reed Army Medical Center, 6900 Georgia Avenue, NW, Building 7, Washington, DC 20307-5001.

Notification procedure:

Individuals seeking to determine if information about themselves is contained in this record system should address written inquiries to the Chief, U.S. Army Physical Disability Agency, Walter Reed Army Medical Center, 6900 Georgia Avenue, NW, Building 7, Washington, DC 20307-5001.

Individual should provide the full name, Social Security Number, current address and telephone number, and signature.

Inquiries are restricted to issues relating to the Temporary Disability Retirement List only; issues of pay must be made at the Defense Finance and Accounting Service, 8899 East 56th Street, Indianapolis, IN 46249-5000.

Record access procedures:

Individuals seeking access to records about themselves contained in this record system should address written inquiries to the Chief, U.S. Army Physical Disability Agency, Walter Reed Army Medical Center, 6900 Georgia Avenue, NW, Building 7, Washington, DC 20307-5001.

Individual should provide the full name, Social Security Number, current address and telephone number, and signature.

Inquiries are restricted to issues relating to the Temporary Disability Retirement List only; issues of pay must be made at the Defense Finance and Accounting Service, 8899 East 56th Street, Indianapolis, IN 46249-5000.

Contesting record procedures:

The Army's rules for accessing records, and for contesting contents and appealing initial agency determinations are contained in Army Regulation 340-21; 32 CFR part 505; or may be obtained from the system manager.

Record source categories:

From the individual, medical treatment facilities, and other Army records and reports.

Exemptions claimed for the system:

None.

[FR Doc. 01-414 Filed 1-5-01; 8:45 am]

BILLING CODE 5001-10-U